INTERNATIONAL TRADE COMMISSION

[Investigation Nos. 731-TA-1369-1372 (Final)]

Fine Denier Polyester Staple Fiber From China, India, Korea, and Taiwan; Supplemental Schedule for the Subject Investigations

AGENCY: United States International Trade Commission.

ACTION: Notice.

DATES: May 30, 2018.

FOR FURTHER INFORMATION CONTACT: Jordan Harriman (202-205-2610), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: Effective November 6, 2017, the Commission established a general schedule for the conduct of the final phase of its investigations on fine denier polyester staple fiber (“fine denier PSF”) from China, India, Korea, and Taiwan,¹ following preliminary determinations by the U.S. Department of Commerce (“Commerce”) that imports of fine denier PSF were subsidized by the governments of China and India. To date, Commerce has issued final affirmative countervailing duty determinations with respect to fine denier PSF from China and India ² and most recently final affirmative antidumping duty determinations with respect to China, India, Korea, and Taiwan.³ The Commission, therefore, is issuing a supplemental schedule for its antidumping duty investigations on imports of fine denier PSF from China, India, Korea, and Taiwan.

¹ Fine Denier Polyester Staple Fiber From China, India, Korea, and Taiwan; Scheduling of the Final Phase of Countervailing Duty and Antidumping Duty Investigations, 82 FR 56050, November 27, 2017.

² Countervailing Duty Investigation of Fine Denier Polyester Staple Fiber From the People's Republic of China: Final Affirmative Determination, 83 FR 3120, January 23, 2018; and Countervailing Duty Investigation of Fine Denier Polyester Staple Fiber From India: Final Affirmative Determination, 83 FR 3122, January 23, 2018.

³ Fine Denier Polyester Staple Fiber from the People's Republic of China: Final Affirmative Determination of Sales at Less Than Fair Value, 83 FR 24740, May 30, 2018; Fine Denier Polyester Staple Fiber from the India: Final Affirmative Determination of Sales at Less Than Fair Value, 83 FR 24737, May 30, 2018; Fine Denier Polyester Staple Fiber from the Republic of Korea: Final Affirmative Determination of Sales at Less Than Fair Value, 83 FR 24743, May 30, 2018; and Fine Denier Polyester Staple Fiber from Taiwan: Final Affirmative Determination of Sales at Less Than Fair Value, 83 FR 24745, May 30, 2018.

The Commission's supplemental schedule is as follows: The deadline for filing supplemental party comments on Commerce's final determinations is June 12, 2018; the staff report in the final phase of these investigations will be placed in the nonpublic record on June 21, 2018; and a public version will be issued thereafter.

Supplemental party comments may address only Commerce's final antidumping duty determinations regarding fine denier PSF from China, India, Korea, and Taiwan. These supplemental final comments may not contain new factual information and may not exceed five (5) pages in length.

For further information concerning these investigations see the Commission's notice cited above and the Commission's Rules of Practice and Procedure, part 201, subparts A and B (19 CFR part 201), and part 207, subparts A and C (19 CFR part 207).

Authority: These investigations are being conducted under authority of title VII of the Tariff Act of 1930; this notice is published pursuant to section 207.21 of the Commission's rules.

By order of the Commission.
Issued: June 1, 2018.
Lisa Barton,
Secretary to the Commission.

[FR Doc. 2018-12169 Filed 6-5-18; 8:45 am]

BILLING CODE 7020-02-P